DEPARTMENT OF THE INTERIOR

Bureau of Indian Affairs

[212D0102DR/DS5A300000/DR.5A311.IA000118]

Land Acquisitions; Wilton Rancheria

AGENCY: Bureau of Indian Affairs, Interior.

ACTION: Notice.

SUMMARY: The Principal Deputy Assistant Secretary—Indian Affairs made a final agency determination to acquire 35.92 acres, more or less, in the City of Elk Grove, Sacramento County, California (Site) in trust for the Wilton Rancheria for gaming and other purposes on January 19, 2017.

DATES: The final determination was made on January 19, 2017. The land was acquired in trust on February 10, 2017.

FOR FURTHER INFORMATION CONTACT: Ms. Paula L. Hart, Director, Office of Indian Gaming, Bureau of Indian Affairs, MS-3543 MIB, 1849 C Street NW, Washington, DC 20240, telephone (202) 219-4066, paula.hart@bia.gov.

SUPPLEMENTARY INFORMATION: On January 19, 2017, the Principal Deputy Assistant Secretary—Indian Affairs issued a decision to accept the Site, consisting of approximately 35.92 acres, more or less, of land in trust for the Wilton Rancheria (Tribe), under the authority of the Indian Reorganization Act, 25 U.S.C. 5108. The Principal Deputy Assistant Secretary—Indian Affairs determined that Tribe's request also meets the requirements of the Indian Gaming Regulatory Act's “Restored Lands” exception, 25 U.S.C. 2719(b)(1)(B)(iii), to the general prohibition contained in 25 U.S.C. 2719(a) on gaming on lands acquired in trust after October 17, 1988.

The Assistant Secretary—Indian Affairs, on behalf of the Secretary of the Interior, acquired title to Site in the name of the United States of America in trust for Tribe on February 10, 2017. The 35.92 acres, more or less, are located in Sacramento County, California and are described as follows:

Being a portion of Lot A as shown on that certain map entitled “Subdivision No. 00-038.00 Lent Ranch Marketplace” filed for record on December 14, 2007 in Book 372 of Maps, Page 27, located in the City of Elk Grove, County of Sacramento, State of California, more particularly described as follows:

Commencing at a point which is the northeasterly corner of Lot A of said map, being a 3/4″ iron pipe with plug stamped L.S. 6815; Thence leaving said point of commencement along the northeasterly line of said Lot A, South 37°55′18″ East, a distance of 533.10 feet; Thence leaving said northeasterly line, entering and passing through said Lot A, South 51°30′01″ West, a distance of 24.29 feet to the true point of beginning; Thence leaving said Point of Beginning and continuing through said Lot A, South 51°30′01″ West, a distance of 1780.56 feet to a point on the southwesterly line of said Lot A, also being a point on the northeasterly right-of-way line of Promenade Parkway as shown on said map;

Thence northwesterly and northerly, respectively, along said right-of-way line, the following Twenty-one (21) arcs, courses and distances:

(1) From a radial line which bears South 57°17′37″ West, along a non-tangent curve concave to the east, having a radius of 1,452.00 feet, northwesterly 564.43 feet along said curve through a central angle of 22°16′20″;

(2) North 79°33′57″ East, a distance of 6.00 feet;

(3) from a radial line which bears South 79°33′57″ West, along a non-tangent curve concave to the southeast, having a radius of 25.00 feet, northeasterly 40.55 feet along said curve through a central angle of 92°56′41″;

(4) North 82°30′38″ East, a distance of 51.72 feet;

(5) North 07°29′22″ West, a distance of 100.00 feet;

(6) South 82°30′38″ West, a distance of 53.51 feet;

(7) along a tangent curve concave to the northeast, having a radius of 25.00 feet, northwesterly 40.62 feet along said curve through a central angle of 93°06′07″;

(8) South 85°36′45″ West, a distance of 6.00 feet;

(9) from a radial line which bears South 85°36′45″ West, along a non-tangent curve concave to the east, having a radius of 1,454.00 feet, northerly 93.58 feet along said curve through a central angle of 03°41′16″;

(10) North 00°42′00″ West, a distance of 147.80 feet;

(11) North 89°18′00″ East, a distance of 6.00 feet;

(12) from a radial line which bears South 89°18′00″ West, along a non-tangent curve concave to the southeast, having a radius of 25.00 feet, northeasterly 39.27 feet along said curve through a central angle of 90°00′00″;

(13) North 89°18′00″ East, a distance of 6.00 feet;

(14) North 00°42′00″ West, a distance of 50.00 feet;

(15) South 89°18′00″ West, a distance of 13.34 feet;

(16) along a tangent curve concave to the northeast, having a radius of 25.00 feet, northwesterly 38.46 feet along said curve through a central angle of 88°08′33″;

(17) South 87°26′33″ West, a distance of 6.00 feet;

(18) North 02°33′27″ West, a distance of 51.58 feet;

(19) North 00°42′00″ West, a distance of 563.84 feet;

(20) North 89°18′00″ East, a distance of 6.00 feet;

(21) from a radial line which bears South 89°18′00″ West, along a non-tangent curve concave to the east, having a radius of 25.00 feet, northerly 6.76 feet along said curve through a central angle of 15°30′00″ to the northwest corner of said Lot A and a point on the common line between said Lot A and Lot G of said Map;

Thence leaving said northeasterly line, along said common line, the following four (4) arcs, courses and distances:

(1) North 89°12′25″ East, a distance of 86.70 feet;

(2) along a tangent curve concave to the southwest, having a radius of 330.00 feet, southeasterly 314.08 feet along said curve through a central angle of 54°31′51″;

(3) South 36°15′44″ East, a distance of 86.17 feet;

(4) along a tangent curve concave to the north, having a radius of 25.00 feet, easterly 37.96 feet along said curve through a central angle of 87°00′21″;

Thence leaving said common line, entering and passing through said Lot A, the following eight (8) arcs, courses and distances:

(1) South 32°02′06″ East, a distance of 66.91 feet;

(2) from a radial line which bears North 33°08′11″ West, along a non-tangent curve concave to the south, having a radius of 978.00 feet, easterly 417.51 feet along said curve through a central angle of 24°27′35″;

(3) North 81°19′25″ East, a distance of 19.83 feet;

(4) along a tangent curve concave to the south, having a radius of 879.00 feet, easterly 342.73 feet along said curve through a central angle of 22°20′25″;

(5) South 76°20′11″ East, a distance of 12.19 feet;

(6) along a tangent curve concave to the southwest, having a radius of 342.00 feet, southeasterly 157.69 feet along said curve through a central angle of 26°25′03″;

(7) along a compound curve concave to the southwest, having a radius of 342.00 feet, southeasterly 71.04 feet along said curve through a central angle of 11°54′08″;

(8) South 38°01′00″ East, a distance of 346.19 feet to the point of beginning.

The Basis of Bearings for this description is the California State Plane Coordinate System, Zone 2, NAD 83, Epoch Date 1997.30 as measured between NGS Station “Eschinger”, 1st Order and NGS Station “Keller”, 1st Order. Said Bearing is North 20°56′36″ West. Distances shown are ground based.

APN: 134-1010-001-0000 (Portion)

Authority: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Bryan Newland,
Principal Deputy Assistant Secretary—Indian Affairs.

[FR Doc. 2021-13199 Filed 6-22-21; 8:45 am]

BILLING CODE 4337-15-P